CORPORATION FOR NATIONAL AND COMMUNITY SERVICE

Submission for OMB Emergency Review

AGENCY: Corporation for National and Community Service.

ACTION: Notice.

SUMMARY: The Corporation for National and Community Service (hereinafter the “Corporation”), submitted the following information collection request (ICR) to the Office of Management and Budget (OMB) for review and clearance in accordance with the Paperwork Reduction Act of 1995, (PRA 95) (44 U.S.C. chapter 35). The Corporation requested that OMB review and approve its emergency request by August 15, 2011, for a period of six months. A copy of this ICR, with applicable supporting documentation, may be obtained by contacting Amy Borgstrom, (202) 606-6930 or by e-mail at aborgstrom@cns.gov.

Unfortunately, since the Corporation requested OMB's approval of this emergency request by August 15, 2011, there will be not enough time for the public to provide comments through this Federal Register Notice before the approval date. Therefore, there will be no comment period for this request.

Type of Review: Emergency request.

Agency: Corporation for National and Community Service.

Title: AmeriCorps State and National Application Instructions.

OMB Number: 3045-0047.

Agency Number: None.

Affected Public: Nonprofit organizations and congregations.

Total Respondents: 600.

Frequency: One time.

Average Time per Response: 40 hours.

Estimated Total Burden Hours: 24,000 hours.

Total Burden Cost (capital/startup): None.

Total Burden Cost (operating/maintenance): None.

Description: The Corporation for National and Community Service (the “Corporation”) has amended several provisions relating to the AmeriCorps national service program, and has added rules to clarify the Corporation's requirements for national performance measures, fixed amount grants, and grantmaking criteria to align with the Edward M. Kennedy Serve America Act. We also have a new Strategic Plan in place. The implementation of these changes through the rulemaking process includes ensuring the Corporation's information collection instruments accurately reflect these issues. In an effort to be compliant while maintaining functions essential to the operations of each state commission and AmeriCorps programs, we are therefore submitting the enclosed request under 5 CFR 1320.13 to OMB for emergency processing and approval of information collection activities. This submission includes one set of Application Instructions for AmeriCorps State and National grants.

Since the passage of the Edward M. Kennedy Serve America Act, many Americans have expressed a renewed desire to serve their country by volunteering in their community. Now, we have an obligation to ensure that Americans have quality opportunities to serve. Moreover, as the Corporation and OMB have previously communicated, the Corporation is working hard to ensure it is fully compliant with the Paperwork Reduction Act and with OMB's information collection policies and procedures.

If you have any questions, contact Amy Borgstrom at 202-606-6930 or aborgstrom@cns.gov. We sincerely thank you for your consideration of this request and your willingness to work with us in remaining fully compliant with the Paperwork Reduction Act.

Dated: August 9, 2011.
Lois Nembhard,
Deputy Director, AmeriCorps State and National.

[FR Doc. 2011-20545 Filed 8-11-11; 8:45 am]

BILLING CODE 6050-$$-P